SOCIAL SECURITY ADMINISTRATION

President's Commission to Strengthen Social Security

AGENCY: Social Security Administration (SSA).

ACTION: Announcement of meeting location.

DATES: November 29, 2001 10:00 a.m.-6:00 p.m.

ADDRESSES: Hampton Ballroom, the Omni Shoreham Hotel, 2500 Calvert Street, NW, Washington, DC 20008, (202) 234-0700.

SUPPLEMENTARY INFORMATION: The Federal Register notice announcing the November 29 meeting of the President's Commission to Strengthen Social Security did not include a meeting location. The purpose of this announcement is to provide the meeting location.

The Commission will meet commencing Thursday, November 29, at 10:00 a.m. and ending at 6:00 p.m., with a break for lunch between 1:00 p.m. and 2:00 p.m. The Commission will be deliberating on how to administer personal accounts and how to ensure long-term solvency in the Social Security program.

Dated: November 16, 2001.
Michael A. Anzick,
Designated Federal Officer.

[FR Doc. 01-29284 Filed 11-20-01; 8:45 am]

BILLING CODE 4191-02-U